FEDERAL COMMUNICATIONS COMMISSION

47 CFR Part 73

[DA 00-2420; MM Docket No. 00-209; RM-9978]

Radio Broadcasting Services; Rio Rico, AZ

AGENCY: Federal Communications Commission.

ACTION: Proposed rule.

SUMMARY: This document requests comments on a petition for rule making filed on behalf of Santa Cruz Broadcasting, requesting the allotment of Channel 300A to Rio Rico, Arizona, as a first local aural transmission service. Information is requested regarding the attributes of Rio Rico to determine whether it is a bona fide community for allotment purposes. Additionally, as Rio Rico is located within 320 kilometers (199 miles) of the U.S.-Mexico border, and will result in short spacings to two Mexican allotments, concurrence of the Mexican government to the proposed allotment of Channel 300A to Rio Rico, as a specially-negotiated short-spaced allotment must be obtained. Coordinates used for this proposal are 31-24-00 NL and 110-57-30 WL.

DATES: Comments must be filed on or before December 18, 2000, and reply comments on or before January 2, 2001.

ADDRESSES: Secretary, Federal Communications Commission, Washington, DC 20554. In addition to filing comments with the FCC, interested parties should serve the petitioner's counsel, as follows: Susan A. Marshall Esq., Fletcher, Heald & Hildreth, PLC, 1300 North 17th Street, 11th Floor, Arlington, VA 22209.

FOR FURTHER INFORMATION CONTACT: Nancy Joyner, Mass Media Bureau, (202) 418-2180.

SUPPLEMENTARY INFORMATION: This is a synopsis of the Commission's Notice of Proposed Rule Making, MM Docket No. 00-209, adopted October 18, 2000, and released October 27, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arizona, is amended by adding Rio Rico, Channel 300A.

Federal Communications Commission.
John A. Karousos,
Chief, Allocations Branch, Policy and Rules Division, Mass Media Bureau.

[FR Doc. 00-28916 Filed 11-9-00; 8:45 am]

BILLING CODE 6712-01-U